DEPARTMENT OF HEALTH AND HUMAN SERVICES

Administration for Children and Families

[CFDA Number: 93.568]

Proposed Reallotment of Fiscal Year 2024 Funds for the Low Income Home Energy Assistance Program-Final

AGENCY: Office of Community Services (OCS), Administration for Children and Families (ACF), Department of Health and Human Services (HHS).

ACTION: Notice of final issuance.

SUMMARY: The Office of Community Services (OCS) announces that $2,293,415 of funds from the federal fiscal year 2024 (FY24) Low Income Home Energy Assistance Program (LIHEAP) were reallotted to states, territories, tribes, and tribal organizations that received FY25 direct LIHEAP grants.

DATES: This notice became effective upon its publication.

FOR FURTHER INFORMATION CONTACT: Jolleen Janelle George, Acting Director, Office of Community Services, 330 C Street SW, 5th Floor; Mail Room 5425; Washington, DC 20201. Telephone: (202) 401-4830; email: jolleen.george@acf.hhs.gov.

SUPPLEMENTARY INFORMATION: In accordance with section 2607(b)(1) of the Low Income Home Energy Assistance Act of 1981, as amended, (the Act) (42 U.S.C. 8626(b)(1)), ACF published a notice in the Federal Register on July 25, 2025, 90 FR 35304, announcing the Secretary's preliminary determination that $2,425,645 of FY24 funds for LIHEAP may be available for reallotment. ACF received no comments on this notice. After publication, ACF reduced this amount to $2,293,415 because of (1) reporting revisions made by recipients. ACF redistributed $2,293,415 of these funds as though they were appropriated for FY25, in accordance with section 2607(b)(2)(C) of the Act (42 U.S.C. 8626(b)(2)(C)).

The $2,293,415 became available from the following recipients in the following amounts:

Name of recipient that had funds returned for reallotment | Amount available for reallotment
Alaska | $253,398
District of Columbia | 21,181
Idaho | 611,750
Nebraska | 371,160
Chuathbaluk Traditional Council | 23,027
Conf. Tribes of Grand Ronde | 34,644
Conf. Tribes of Warm Springs | 19,514
Confederated Salish & Kootenai Tribes | 73,798
Cow Creek Band of Umpqua Indians | 3,667
Eastern Shoshone of the Wind River | 92,688
Hoh Tribe | 7,614
Jicarilla Apache Tribe | 3,593
Karuk Tribe | 6,836
Modoc Tribe of Oklahoma | 1,166
Nanticoke Lenni-Lenape Tribal Nation | 57,372
Navajo Nation | 599,956
Nooksack Indian Tribe | 11,038
Passamaquoddy Tribe—Pleasant Point | 24,573
Pueblo of Zuni | 1,976
Quapaw Tribe | 3,942
Quileute Tribe | 15,219
Round Valley | 26,850
Sac & Fox Tribe of Oklahoma | 6,728
Samish Tribe | 527
Sault Ste. Marie Chippewa Tribe | 7,520
Pueblo of Jemez | 13,678
Total | 2,293,415

The list of recipients that were awarded these funds was published on OCS's website here: https://acf.gov/ocs/programs/liheap/funding-releases/reallotment-liheap-funding-release-ffy-2025.

Pursuant to the statute cited above, these funds were reallotted on September 19, 2025, to all the FY25 LIHEAP grant recipients, except 13 states and 66 tribes, by distributing them under the formula that Congress set for FY25 funding. The three types of recipients that did not receive funds were (1) those whose allocations would have been less than $25 (see 45 CFR 96.81(c)), (2) tribes or tribal organizations that agreed with their co-territorial states to receive set amounts for the entire fiscal year (see 42 U.S.C. 8623(d)(2)), and (3) states whose FY25 funding amounts met the state's full-year floors specified by the FY25 regular appropriations. No subrecipients of these recipients or other entities may apply for these funds.

The reallotted funds may be used for any purpose authorized under LIHEAP. Recipients must add these funds to their total LIHEAP funds payable for FY25 for purposes of calculating statutory caps on administrative costs, carryover, Assurance 16 activities, and weatherization assistance. Recipients must also: (1) ensure that these funds are included in the amounts that ACF pre-populates on Line 1.1 of their FY25 Carryover and Reallotment Reports; (2) reconcile these funds on the associated Federal Financial Report (FFR), to the extent that they received them, with all other sources that ACF categorized under an award number ending in “LIEA”; and (3) record, on their FY25 Household Reports, households that receive benefits at least partly from these funds. State recipients must also ensure that these funds are included in the Grantee Survey sections of their FY25 LIHEAP Performance Data Forms.

OCS recommends that, after receiving them, recipients obligate these funds before obligating any other federal LIHEAP funds.

Statutory Authority: 42 U.S.C. 8626(b).

Elizabeth Leo,
Grants Policy Branch Chief, Office of Grants Policy, Office of Administration.

[FR Doc. 2026-01784 Filed 1-28-26; 8:45 am]

BILLING CODE 4184-80-P